DEPARTMENT OF TRANSPORTATION

Federal Aviation Administration

14 CFR Part 39

[Docket No. FAA-2005-20292; Directorate Identifier 2004-SW-26-AD; Amendment 39-14075; AD 2005-09-07]

RIN 2120-AA64

Airworthiness Directives; Agusta S.p.A. Model A109E Helicopters

AGENCY: Federal Aviation Administration, DOT.

ACTION: Final rule.

SUMMARY: This amendment adopts a new airworthiness directive (AD) for Agusta S.p.A. (Agusta) Model A109E helicopters that requires visually inspecting each main transmission support fitting (fitting) attachment bolt (bolt) for a fracture, a crack, or looseness, and verifying the torque on each fitting bolt. This amendment is prompted by two incidents of fatigue failure of the bolts that secure the transmission rear support fittings to the helicopter. The actions specified by this AD are intended to detect a fracture, a crack, or looseness of a fitting bolt, and prevent fatigue failure of a fitting bolt and subsequent loss of control of the helicopter.

DATES: Effective June 13, 2005.

The incorporation by reference of certain publications listed in the regulations is approved by the Director of the Federal Register as of June 13, 2005.

ADDRESSES: You may get the service information identified in this AD from Agusta, 21017 Cascina Costa di Samarate (VA) Italy, Via Giovanni Agusta 520, telephone 39 (0331) 229111, fax 39 (0331) 229605-222595.

Examining the Docket

You may examine the docket that contains this AD, any comments, and other information on the Internet at http://dms.dot.gov, or at the Docket Management System (DMS), U.S. Department of Transportation, 400 Seventh Street SW., Room PL-401, on the plaza level of the Nassif Building, Washington, DC.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: A proposal to amend 14 CFR part 39 to include an AD for Agusta Model A109E helicopters was published in the Federal Register on February 10, 2005 (70 FR 7061). That action proposed to require inspecting the fitting bolts, part number (P/N) NAS625-14, for a fracture, a crack, or looseness within 5 hours time-in-service (TIS), and then at intervals not to exceed 10 hours TIS until performing a torque inspection of each fitting bolt. The torque inspection would have to be accomplished before further flight if looseness is found, or within 25 hours TIS if looseness is not found. If a fracture or a crack is found on any bolt in any fitting, replacing all 4 of the bolts in a fitting with airworthy fitting bolts would be required before further flight. If any torque inspection reveals that the torque of any bolt in a fitting is not between 11.3-15.8 Nm (100-140 inch-pounds), all 4 of the bolts in the fitting would have to be replaced with airworthy fitting bolts before further flight.

The Ente Nazionale per l'Aviazione Civile (ENAC), the airworthiness authority for Italy, notified the FAA that an unsafe condition may exist on Agusta Model A109E helicopters. ENAC advises of the need to check the bolts that secure the fittings to the structure by following the manufacturer's Bollettino Tecnico No. 109EP-43, dated March 25, 2004.

Agusta has issued Bollettino Tecnico No. 109EP-43, dated March 25, 2004, which specifies a periodic visual inspection to verify the integrity of the slippage marks, and successively checking the torque of the bolts to exclude the possible presence of looseness and/or a fracture or a crack. ENAC classified this bollettino tecnico as mandatory and issued AD No. 2004-099, dated March 29, 2004, to ensure the continued airworthiness of these helicopters in Italy.

This helicopter model is manufactured in Italy and is type certificated for operation in the United States under the provisions of 14 CFR 21.29 and the applicable bilateral agreement. Pursuant to the applicable bilateral agreement, ENAC has kept the FAA informed of the situation described above. The FAA has examined the findings of ENAC, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed. However, we have made a correction in the service information date that was incorrectly referenced in the preamble of the proposal; the date was incorrectly listed as March 3, 2004 but is correctly referenced as March 25, 2004 in this AD. We have determined that this change will neither increase the economic burden on any operator nor increase the scope of the AD.

We estimate that this AD will affect 58 helicopters of U.S. registry. Three inspections (one initial, one repetitive, and the torque inspection) will take approximately 4 work hours to accomplish at an average labor rate of $65 per work hour. (The manufacturer states that it shall recognize a warranty credit of up to $200 per helicopter for the labor). Required parts will cost approximately $1,600 per helicopter ($100 per fitting bolt for 16 fitting bolts). Based on these figures, the total estimated cost impact of the AD on U.S. operators is $115,420, assuming that no warranty credit is available and that all affected fitting bolts are replaced.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-09-07 Agusta S.p.A.: Amendment 39-14075. Docket No. FAA-2005-20292; Directorate Identifier 2004-SW-26-AD.

Applicability: Model A109E helicopters, certificated in any category.

Compliance: Required as indicated, unless accomplished previously.

To detect a fracture, a crack, or looseness of a main transmission support fitting (fitting) attachment bolt (bolt), and prevent fatigue failure of a fitting bolt and subsequent loss of control of the helicopter, accomplish the following:

(a) Within 5 hours time-in-service (TIS), and then at intervals not to exceed 10 hours TIS until a torque inspection of each fitting bolt is accomplished in accordance with paragraph (b) of this AD, inspect each fitting bolt, part number NAS625-14, for a fracture, a crack, or looseness using a light and a mirror in accordance with Part I, steps 1. through 4., of Agusta Bollettino Tecnico No. 109EP-43, dated March 25, 2004 (BT).

(1) On each of the 4 fittings, if a fracture or a crack is found in any bolt, replace all 4 bolts in the fitting with airworthy fitting bolts before further flight.

(2) If looseness is found in any bolt in any fitting, inspect each of the 4 bolts on each of the 4 fittings (16 bolts total) to determine if the torque is between 11.3-15.8 Nm (100-140 inch-pounds). If the indicated torque is not within the acceptable range on any bolt in a fitting, before further flight, remove all 4 bolts in the fitting and replace them with airworthy fitting bolts in accordance with Part II, steps 5.1 through 9. of the BT.

(b) Within 25 hours TIS, inspect each bolt in each fitting to determine if the torque is between 11.3-15.8 Nm (100-140 inch-pounds). If the indicated torque is not within the acceptable range on any bolt, before further flight, remove all 4 bolts in the fitting and replace them with airworthy fitting bolts in accordance with Part II, steps 5.1 through 9., of the BT.

(c) Accomplishing the inspections specified in paragraphs (a) and (b) constitute terminating actions for the requirements of this AD.

(d) To request a different method of compliance or a different compliance time for this AD, follow the procedures in 14 CFR 39.19. Contact the Safety Management Group, Rotorcraft Directorate, FAA, for information about previously approved alternative methods of compliance.

(e) Special flight permits may be issued in accordance with 14 CFR 21.197 and 21.199 to operate the helicopter to a location where the requirements of this AD can be accomplished, provided that no fracture or crack or looseness was found during the inspections required by this AD.

(f) The inspections and replacements shall be done in accordance with Agusta Bollettino Tecnico No. 109EP-43, dated March 25, 2004. The Director of the Federal Register approved this incorporation by reference in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the National Archives and Records Administration (NARA). For information on the availability of this material at NARA, call 202-741-6030, or go to: http://www.archives.gov/federal_register/code_of_federal_regulations/ibr_locations.html.

(g) This amendment becomes effective on June 13, 2005.

Note: The subject of this AD is addressed in Ente Nazionale per l'Aviazione Civile (Italy) AD No. 2004-099, dated March 29, 2004.

Issued in Fort Worth, Texas, on April 27, 2005.
Carl F. Mittag,
Acting Manager, Rotorcraft Directorate, Aircraft Certification Service.

[FR Doc. 05-8952 Filed 5-6-05; 8:45 am]

BILLING CODE 4910-13-P